DEPARTMENT OF HEALTH AND HUMAN SERVICES

Agency for Healthcare Research and Quality

Expert Meeting on Measurement Criteria for Children's Health Insurance Program; Reauthorization Act Pediatric Quality Measures

AGENCY: Agency for Healthcare Research and Quality (AHRQ).

ACTION: Notice of public meeting.

SUMMARY: This notice announces a meeting to identify measurement criteria for use in carrying out the Pediatric Quality Measures Program (PQMP) under Section 1139A(b) of the Social Security Act as enacted in the Children's Health Insurance Program Reauthorization Act (CHIPRA).

DATES: The meeting will be held on Wednesday, February 24, 2010, from 10 a.m. to 5 p.m. and Thursday, February 25, 2010, from 8 a.m. to 4 p.m.

ADDRESSES: Agency for Healthcare Research and Quality Eisenberg Building, 540 Gaither Rd., Rockville, MD 20850 and by public webcast.

FOR FURTHER INFORMATION CONTACT: Maushami DeSoto, Agency for Healthcare Research and Quality, 540 Gaither Road, Rockville, Maryland 20850, (301) 427-1546. For press-related information, please contact Karen Migdail at (301) 427-1855.

If sign language interpretation or other reasonable accommodation for a disability is needed, please contact Mr. Michael Chew, Director, Office of Equal Employment Opportunity Program, Program Support Center, on (301) 443-1144, no later than February 20, 2010.

SUPPLEMENTARY INFORMATION:

I. Purpose

In early 2009, CHIPRA (Pub. L. 111-3) reauthorized the Child Health Insurance Program (CHIP) originally established in 1997, and in Title IV of the law, added a number of new provisions designed to improve health care quality and outcomes for children. AHRQ is working closely with the Centers for Medicare and Medicaid Services (CMS) and the CHIPRA Federal Quality Workgroup in implementing these provisions. For more information about AHRQ's role in carrying out the quality provisions of CHIPRA, and for a list of an initial core set of children's healthcare quality measures voluntary use by Medicaid programs and Children's Health Insurance Programs and the health plans and providers of care that the programs engage with, mandated by the Act, that has been identified and posted for public comment, see http://www.ahrg.gov/chip/chipraact.htm.

CHIPRA further directed the Secretary to establish a Pediatric Quality Measures Program (PQMP) to strengthen and expand the initial core measure set required under its section 401(a). The statutory goal of the PQMP is to produce an improved core set of children's healthcare quality measures for use by public and private programs, health insurers, providers and patients, by January 1, 2013. In order to achieve this goal, measurement criteria to develop and enhance pediatric health care measures need to be identified and framed for use by those who will be developing and enhancing the measures under the PQMP. The PQMP objectives are to: Expand, improve and strengthen the initial core measure set and existing pediatric measures used by public and private health care purchasers and advance the development of new and emerging quality measures; and thereby, increase the portfolio of evidence-based and consensus-based, pediatric quality measures available to public and private purchasers of children's health care services, providers, and consumers as well as for use by policymakers at all political levels, including use in mandated reports to Congress on voluntary State reporting and on any need for further legislation.

In accordance with statutory requirements, the measures to be developed or enhanced under this program will cover a range of pediatric preventive services, treatments and services for both acute and chronic conditions, including health services to correct or ameliorate the effects of physical and mental conditions; and health services to aid in the growth and development of children with special health care needs; and measure and duration of health care coverage. Said measures are to be designed to ensure that data collected are comparable at the State, health plan and provider levels, risk-adjusted if appropriate, and periodically updated. In addition, pursuant to section 401(s) of CHIPRA, measures are to be able to identify disparities by race and ethnicity, socioeconomic status, and special healthcare needs.

II. Agenda

On Wednesday, February 24, 2010, the meeting will convene at 10 a.m. The meeting will focus on engaging invited experts and public participants in identifying criteria for pediatric quality measures to be used by PQMP grant and contract program awardees beginning in September 2010. The agenda will cover discussions of key measure criteria in existence and participants will be asked to identify criteria suitable for the measure development and enhancement work to be supported by the PQMP program.

A more specific proposed agenda and instructions for public access to the meeting will be posted before the meeting at http://www.ahrg.gov/chip/chipraact.htm. The final agenda, including the time for public comment during the meeting, will be available on the AHRQ Web site at http://www.ahrg.gov/chip/chipraact.htm no later than February 14, 2010. A transcript of the meeting will be available within 21 business days after the meeting.

Dated: February 2, 2010.
Carolyn M. Clancy,
Director.

[FR Doc. 2010-2873 Filed 2-9-10; 8:45 am]

BILLING CODE 4160-90-M